FEDERAL COMMUNICATIONS COMMISSION

47 CFR Part 73

[DA 00-1963, MM Docket No. 00-153, RM-9936; MM Docket No. 00-154, RM-9935]

Radio Broadcasting Services; Marceline, MO, Fair Haven, VT

AGENCY: Federal Communications Commission.

ACTION: Proposed rule.

SUMMARY: The Commission requests comments on two petitions for rule making requesting FM channel allotments at Marceline, MO, and Fair Haven, VT. Channel 256A can be allotted to Marceline in compliance with the Commission's minimum distance separation requirements with a site restriction of 7.2 kilometers (4.5 miles) northeast, at coordinates 39-44-42 NL; 92-52-33 WL, to avoid a short-spacing to Station KQRC-FM, Channel 255C, Leavenworth, Kansas. Channel 223A can be allotted to Fair Haven in compliance with the Commission's minimum distance separation requirements, with respect to all domestic allotments, without the imposition of a site restriction at coordinates 43-35-41 NL; 73-15-58 WL. Fair Haven is located within 320 kilometers (200 miles) of the U.S.-Canadian border and the allotment, at the proposed coordinates, will result in a 29.1 kilometer short-spacing to Station CFQR-FM, Channel 223C1, Montreal, Quebec, Canada. Therefore, concurrence by the Canadian Government in the allotment, as a specially negotiated short-spaced allotment, must be obtained.

DATES: Comments must be filed on or before October 16, 2000, and reply comments on or before October 31, 2000.

ADDRESSES: Federal Communications Commission, 445 12th Street, SW., Room TW-A325, Washington, DC 20554. In addition to filing comments with the FCC, interested parties should serve the petitioner, or its counsel or consultant, as follows: RC Broadcasting Company, 9118 NE 198th Street, Trimble, MO 64492 (Petitioner in RM-9936); Vermont Community Radio c/o Peter Morton, Vice President, Research, P.O. Box 8260, Essex, VT 05451-8260 (Petitioner in RM-9935).

FOR FURTHER INFORMATION CONTACT: Leslie K. Shapiro, Mass Media Bureau, (202) 418-2180.

SUPPLEMENTARY INFORMATION: This is a synopsis of the Commission's Notice of Proposed Rule Making, MM Docket Nos. 00-153, 00-154, adopted August 16, 2000, and released August 25, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-23211 Filed 9-8-00; 8:45 am]

BILLING CODE 6712-01-P